SURFACE TRANSPORTATION BOARD

[Docket No. EP 519 (Sub-No. 4)]

Notice of National Grain Car Council Meeting; Correction

AGENCY: Surface Transportation Board.

ACTION: Notice of National Grain Car Council meeting; correction.

SUMMARY: Notice of this meeting was previously served and published in the Federal Register on July 31, 2023. This notice corrects the day of the week upon which the meeting will be held. All other information in the previous notice remains correct.

FOR FURTHER INFORMATION CONTACT: Alan Cassiday at (202) 245-0308, (717) 215-0635, or alan.cassiday@stb.gov.

SUPPLEMENTARY INFORMATION:

Correction

In the Federal Register of July 31, 2023, in FR Doc. 2023-16187, on page 49549, in the first column, correct the DATES caption to read:

DATES:

The meeting will be held on Tuesday, August 15, 2023, beginning at 1 p.m. (CDT), and is expected to conclude at 5 p.m. (CDT).

Decided: August 2, 2023.
By the Board, Scott M. Zimmerman, Acting Director, Office of Proceedings.
Eden Besera,
Clearance Clerk.

[FR Doc. 2023-16893 Filed 8-7-23; 8:45 am]

BILLING CODE 4915-01-P